DEPARTMENT OF COMMERCE

International Trade Administration

[A-552-802]

Certain Frozen Warmwater Shrimp From the Socialist Republic of Vietnam: Initiation of Antidumping Duty New Shipper Review

AGENCY: Import Administration, International Trade Administration, Department of Commerce.

DATES: Effective Date: March 23, 2011.

SUMMARY: The Department of Commerce (the “Department”) has determined that a request for a new shipper review (“NSR”) of the antidumping duty order on certain frozen warmwater shrimp (“shrimp”) from the Socialist Republic of Vietnam (“Vietnam”), received on February 28, 2011, meets the statutory and regulatory requirements for initiation. The period of review (“POR”) for this NSR is February 1, 2010-January 31, 2011.

FOR FURTHER INFORMATION CONTACT: Paul Walker, AD/CVD Operations, Office 9, Import Administration, International Trade Administration, U.S. Department of Commerce, 14th Street and Constitution Avenue, NW., Washington, DC 20230; telephone: 202-482-0413.

SUPPLEMENTARY INFORMATION:

Background

The notice announcing the antidumping duty order on shrimp from Vietnam was published in the Federal Register on February 1, 2005.¹ On February 28, 2011, pursuant to section 751(a)(2)(B)(i) of the Tariff Act of 1930, as amended (the “Act”), and section 351.214(c) of the Department's regulations, the Department received a NSR request from Thong Thuan Seafood Co., Ltd. (“Thong Thuan”). Thong Thuan certified that it is a producer and exporter of the subject merchandise upon which the request was based.

¹ See Notice of Amended Final Determination of Sales at Less Than Fair Value and Antidumping Duty Order: Certain Frozen Warmwater Shrimp From the Socialist Republic of Vietnam, 70 FR 5152 (February 1, 2005) (“Order”).

Pursuant to section 751(a)(2)(B)(i)(I) of the Act and section 351.214(b)(2)(i) of the Department's regulations, Thong Thuan certified that it did not export subject merchandise to the United States during the period of investigation (“POI”). In addition, pursuant to section 751(a)(2)(B)(i)(II) of the Act and section 351.214(b)(2)(iii)(A) of the Department's regulations, Thong Thuan certified that, since the initiation of the investigation, it has never been affiliated with any Vietnamese exporter or producer who exported subject merchandise to the United States during the POI, including those respondents not individually examined during the investigation. As required by section 351.214(b)(2)(iii)(B) of the Department's regulations, Thong Thuan also certified that its export activities were not controlled by the central government of Vietnam.

In addition to the certifications described above, pursuant to section 351.214(b)(2)(iv) of the Department's regulations, Thong Thuan submitted documentation establishing the following: (1) The date on which Thong Thuan first shipped subject merchandise for export to the United States and; (2) the volume of its first shipment; and (3) the date of its first sale to an unaffiliated customer in the United States.²

² See also “Memorandum to the File, from Paul Walker, Acting Program Manager, “Certain Frozen Warmwater Shrimp From the Socialist Republic of Vietnam: Placing CBP data on the record,” dated concurrently with this notice.

Initiation of New Shipper Review

Pursuant to section 751(a)(2)(B) of the Act and section 351.214(d)(1) of the Department's regulations, we find that the request submitted by Thong Thuan meets the threshold requirements for initiation of a NSR for shipments of shrimp from Vietnam produced and exported by Thong Thuan.³ The POR is February 1, 2010—January 31, 2011.⁴ The Department intends to issue the preliminary results of this NSR no later than 180 days from the date of initiation, and the final results no later than 270 days from the date of initiation.⁵

³ See “Memorandum to the File, from Paul Walker, Acting Program Manager, “Certain Frozen Warmwater Shrimp From the Socialist Republic of Vietnam: New Shipper Initiation Checklist,” dated concurrently with this notice.

⁴ See section 351.214(g)(1)(i)(B) of the Department's regulations.

⁵ See section 751(a)(2)(B)(iv) of the Act.

It is the Department's usual practice, in cases involving non-market economies, to require that a company seeking to establish eligibility for an antidumping duty rate separate from the NME entity-wide rate provide evidence of de jure and de facto absence of government control over the company's export activities. Accordingly, we will issue questionnaires to Thong Thuan, which will include a section requesting information with regard to Thong Thuan's export activities for separate rate purposes. The NSR will proceed if the response provides sufficient indication that Thong Thuan is not subject to either de jure or de facto government control with respect to its export of subject merchandise.

We will instruct U.S. Customs and Border Protection to allow, at the option of the importer, the posting, until the completion of the review, of a bond or security in lieu of a cash deposit for each entry of the subject merchandise from Thong Thuan in accordance with section 751(a)(2)(B)(iii) of the Act and section 351.214(e) of the Department's regulations. Because Thong Thuan certified that it both produced and exported the subject merchandise, the sale of which is the basis for this new shipper review request, we will apply the bonding privilege to Thong Thuan only for subject merchandise which Thong Thuan both produced and exported.

Interested parties requiring access to proprietary information in this NSR should submit applications for disclosure under administrative protective order in accordance with sections 351.305 and 351.306 of the Department's regulations.

This initiation and notice are in accordance with section 751(a)(2)(B) of the Act and sections 351.214 and 351.221(c)(1)(i) of the Department's regulations.

Dated: March 14, 2011.
Christian Marsh,
Deputy Assistant Secretary for Antidumping and Countervailing Duty Operations.

[FR Doc. 2011-6881 Filed 3-22-11; 8:45 am]

BILLING CODE 3510-DS-P